INTERNATIONAL TRADE COMMISSION

[Investigation. No. 337-TA-1381]

Certain Disposable Vaporizer Devices and Components and Packaging Thereof; Notice of Institution of Investigation

AGENCY: U.S. International Trade Commission.

ACTION: Notice.

SUMMARY: Notice is hereby given that a complaint was filed with the U.S. International Trade Commission on October 13, 2023, under section 337 of the Tariff Act of 1930, as amended, on behalf of R.J. Reynolds Tobacco Company of Winston-Salem, North Carolina and R.J. Reynolds Vapor Company of Winston-Salem, North Carolina. A supplement to complaint was filed on November 1, 2023. The complaint, as supplemented, alleges violations of section 337 based upon the importation into the United States, and in the sale of certain disposable vaporizer devices and components and packaging thereof by reason false advertising, false designation of origin, and unfair competition, the threat or effect of which is to destroy or substantially injure an industry in the United States. The complainants request that the Commission institute an investigation and, after the investigation, issue a general exclusion order, or in the alternative a limited exclusion order, and a cease and desist order.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2023).

Scope of Investigation: Having considered the complaint, the U.S. International Trade Commission, on December 14, 2023, ordered that—

(1) Pursuant to subsection (b) of section 337 of the Tariff Act of 1930, as amended, an investigation be instituted to determine whether there is a violation of subsection (a)(1)(A) of section 337 in the importation into the United States, or in the sale of certain products identified in paragraph (2) by reason of false advertising under the Lanham Act, 15 U.S.C. 1125(a)(1)(B), stated in paragraphs 137 through 142 of the complaint, false designation of origin under the Lanham Act, 15 U.S.C. 1125(a)(1)(A), stated in paragraphs 143 through 147 of the complaint, and unfair competition based on violations of the Prevent All Cigarette Trafficking (PACT) Act, the threat or effect of which is to destroy or substantially injure an industry in the United States;

(2) Pursuant to section 210.10(b)(1) of the Commission's Rules of Practice and Procedure, 19 CFR 210.10(b)(1), the plain language description of the accused products or category of accused products, which defines the scope of the investigation, is “disposable vaporizer devices (ENDS devices) and components (specifically e-liquids) and packaging thereof”;

(3) Pursuant to Commission Rule 210.50(b)(1), 19 CFR 210.50(b)(1), the presiding administrative law judge shall take evidence or other information and hear arguments from the parties or other interested persons with respect to the public interest in this investigation, as appropriate, and provide the Commission with findings of fact and a recommended determination on this issue, which shall be limited to the statutory public interest factors set forth in 19 U.S.C. 1337(d)(1), (f)(1), (g)(1);

(4) For the purpose of the investigation so instituted, the following are hereby named as parties upon which this notice of investigation shall be served:

(a) The complainants are:

R.J. Reynolds Tobacco Company, 401 North Main Street, Winston-Salem, NC 27101

R.J. Reynolds Vapor Company, 401 North Main Street, Winston-Salem, NC 27101

(b) The respondents are the following entities alleged to be in violation of section 337, and are the parties upon which the complaint is to be served:

Affiliated Imports, LLC, 13326 Immanuel Road, Pflugerville, TX 78660-8006

American Vape Company, LLC a/k/a American, Vapor Company, LLC, 13326 Immanuel Road, Pflugerville, TX 78660-8006

Breeze Smoke, LLC, 4654 Lilly Court, West Bloomfield, MI 48323

Dongguan (Shenzhen) Shikai Technology Co., Ltd., L5 Block A Shuangjinhui, Tongfuyu Fuyong, Baoan Shenzhen, Guangdong China 518101

EVO Brands, LLC, 251 Little Falls Drive, Wilmington, DE 19808

Flawless Vape Shop Inc., 1021 E Orangethorpe Avenue, Anaheim, CA 92801

Flawless Vape Wholesale & Distribution Inc., 1021 E Orangethorpe Avenue, Anaheim, CA 92801

Guangdong Qisitech Co., Ltd., Fuxing Road, Changan Town, Room 201, Building 3, No. 36, Dongguan City, Guangdong Province, China 523000

iMiracle (Shenzhen) Technology Co. Ltd., Room 1203, Block 1, Wanting Building, Xixiang Substrict, Bao'an District, Shenzhen, China 518126

Magellan Technology Inc., 2225 Kenmore Avenue, Buffalo, NY 14207

Pastel Cartel, LLC, 13326 Immanuel Road, Pflugerville, TX 78660-8006

Price Point Distributors Inc. d/b/a Prince Point NY, 500 Smith Street, Farmingdale, NY 11735

PVG2, LLC, 251 Little Falls Drive, Wilmington, DE 19808

Shenzhen Daosen Vaping Technology Co., Ltd., #501, Building B1, Quanzhi Zhihui Park, Ligang S. Road., Shajin Street, Bao'an Dist., Shenzhen, China 518104

Shenzhen Fumot Technology Co., Ltd., A2907, Building A Longguan Jiuzuan Business, Center, Minzhi Longhua, Shenzhen, China, 518000

Shenzhen Funyin Electronic Co., Ltd., 205 and 401, Building A3, Fuyan Ind. Zone, Tangwei Community, Fuhai St., Bao'an Dist., Shenzhen, Guangdong, China 518000

Shenzhen Han Technology Co., Ltd., Qianwan Hard Technology Park, Baoan, District, Shenzhen, Guangdong, China 518126

Shenzhen Innokin Technology Co., Ltd., Building 6, XinXinTian Industrial Park, Xinsha Road, Shajing, Baoan District, Shenzhen China 518104

Shenzhen IVPS Technology Co., Ltd., 101 Building B8, No. 2, Cengayo Industrial Area, Yuluv Community, Yutang Subdistrict, Guangming District, Shenzhen, Guangdong, China 518001

Shenzhen Noriyang Technology Co., Ltd., Room 303, Building A, Zhonghengsheng High-Tech Park, Xinyu Road, Shajing Town, Baoan District, Shenzhen, Guangdong Province, China 518104

Shenzhen Weiboli Technology Co. Ltd., Room 312, Tianshuzuo, No. 6099 Bao'an Avenue, Bao'an District, Shenzhen, China 518000

SV3 LLC d/b/a Mi-One Brands, 4908 E McDowell Road, Phoenix, AZ 85008

Thesy, LLC d/b/a Element Vape, 10620 Hickson Street, El Monte, CA 91731

Vapeonly Technology Co. Ltd., Room 306-311, Tianshu Building, No. 6099, Bao'an Avenue, Bao'an District, Shenzhen, China 518000

VICA Trading Inc. d/b/a Vapesourcing, 3045 Edinger Avenue, Tustin, CA 92780

(c) The Office of Unfair Import Investigations, U.S. International Trade Commission, 500 E Street SW, Suite 401, Washington, DC 20436; and

(5) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainants of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: December 15, 2023.
Lisa Barton,
Secretary to the Commission.

[FR Doc. 2023-27996 Filed 12-19-23; 8:45 am]

BILLING CODE 7020-02-P